DEPARTMENT OF TRANSPORTATION

Federal Aviation Administration

14 CFR Part 71

[Docket No. FAA-2006-26311; Airspace Docket No. 06-AWP-19]

RIN 2120-AA66

Modification of Class D Airspace; Luke Air Force Base, AZ

AGENCY: Federal Aviation Administration (FAA), DOT.

ACTION: Final rule.

SUMMARY: This action modifies Class D airspace at Luke Air Force Base (LUF), AZ. This modification is necessary to contain and protect circling maneuvers for Category E aircraft executing these maneuvers in conjunction with Standard Instrument Approach Procedures (SIAPs) at the airport.

DATES: Effective Date: 0901 UTC, May 10, 2007. The Director of the Federal Register approves this incorporation by reference action under title 1, Code of Federal Regulations, part 51, subject to the annual revision of FAA Order 7400.9 and publication of conforming amendments.

FOR FURTHER INFORMATION CONTACT: Francie Hope, System Support Specialist, Western Service Center, AJO2-W2, Federal Aviation Administration, 15000 Aviation Boulevard, Lawndale, California 90261, telephone (310) 725-6502.

SUPPLEMENTARY INFORMATION:

History

On December 7, 2006, the FAA published in the Federal Register (71 FR 70910) a notice of proposed rulemaking to revise the Class D airspace at Luke Air Force Base, AZ. Interested parties were invited to participate in this rulemaking effort by submitting written comments on this proposal to the FAA. On January 11, 2007, a notice of proposed rulemaking correction was published in the Federal Register (72 FR 1301), changing the legal description to better describe the requisite airspace. No comments were received. This modification is the same as that proposed in the notice. Class D airspace areas are published in Paragraph 5000 of FAA Order 7400.9P dated September 1, 2006, and effective September 15, 2006, which is incorporated by reference in 14 CFR 71.1. The Class D airspace designation listed in this document will be published subsequently in the Order.

The Rule

This action amends Title 14 Code of Federal Regulations (14 CFR) part 71 by modifying the Class D airspace area for Luke Air Force Base, AZ. This modification is necessary to contain and protect circling maneuvers for Category E aircraft executing these maneuvers in conjunction with Standard Instrument Approach Procedures (SIAPs) at the airport. This action modifies the existing LUF Class D airspace to extend upward from the surface to, but not including, 4000 feet mean sea level (MSL) and within a 5.6-mile radius of Luke AFB from a point intersecting the northwest portion of the Goodyear Class D airspace clockwise to a point intersecting the northern portion of the Glendale Class D airspace; and within a 4.4 mile radius of Luke AFB from the intersection of the southern portion of the Glendale Class D airspace clockwise to the intersection of the Goodyear Class D airspace; and excluding that portion within the Glendale, AZ, and Goodyear, AZ Class D airspace areas.

The FAA has determined that this regulation only involves an established body of technical regulations for which frequent and routine amendments are necessary to keep them operationally current. Therefor, this regulation: (1) Is not a “significant regulatory action” under Executive Order 12866; (2) is not a “significant rule” under Department of Transportation Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9P, Airspace Designations and Reporting Points, dated September 1, 2006, and effective September 15, 2006, is amended as follows:

Paragraph 5000 Class D Airspace.

* * * * *

AWP AZ D Phoenix, Luke AFB, AZ [Amended]

Phoenix Luke AFB, AZ

(Lat. 33°32′06″ N, long. 112°22′59″ W)

That airspace extending upward from the surface to but not including 4,000 feet MSL and within a 5.6-mile radius of Luke AFB from a point intersecting the northwest portion of the Goodyear Class D airspace clockwise to a point intersecting the northern portion of the Glendale Class D airspace; and within a 4.4 mile radius of Luke AFB from the intersection of the southern portion of the Glendale Class D airspace clockwise to the intersection of the Goodyear Class D airspace; and excluding that portion within the Glendale, AZ, and Goodyear, AZ Class D airspace areas. This Class D airspace area is effective during the specific dates and times established in advance by a Notice to Airmen. The effective date and time will thereafter be continually published in the Airport/Facility Directory.

* * * * *

Issued in Los Angeles, California, on February 5, 2007.
Teri L. Bristol,
Acting Director of Terminal Operations, Western Service Area.

[FR Doc. 07-856 Filed 2-23-07; 8:45 am]

BILLING CODE 4910-13-M